DEPARTMENT OF COMMERCE

International Trade Administration

[A-570-831]

Fresh Garlic From the People's Republic of China

AGENCY: Import Administration, International Trade Administration, Department of Commerce.

ACTION: Notice of Initiation of New Shipper Antidumping Duty Reviews: Fresh Garlic from the People's Republic of China.

EFFECTIVE DATE: July 7, 2003.

SUMMARY: In May 2003 the Department of Commerce received eight requests to conduct new shipper reviews of the antidumping duty order on fresh garlic from the People's Republic of China. One of these requests was withdrawn. We have determined that the seven remaining requests meet the statutory and regulatory requirements for the initiation of a new shipper review.

FOR FURTHER INFORMATION CONTACT: Minoo Hatten or Mark Ross at (202) 482-1690 and (202) 482-4794, respectively, AD/CVD Enforcement III, Import Administration, International Trade Administration, U.S. Department of Commerce, 14th Street and Constitution Avenue, N.W., Washington, D.C. 20230.

SUPPLEMENTARY INFORMATION:

Background

The notice announcing the antidumping duty order on fresh garlic from the People's Republic of China (PRC) was published on November 16, 1994. In May 2003 we received eight requests to conduct new shipper reviews of the antidumping duty order.

On May 29, 2003, we received a request for a new shipper review from Linyi Sanshan Import & Export Trading Co., Ltd. (Linyi Sanshan). In its request for review, Linyi Sanshan submitted documentation establishing the date of sale and entry for the transaction on which it based the request for a new shipper review. The dates of sale and entry on the submitted documentation did not fall within the period of review (POR), however, so on June 10, 2003, we issued a letter to Linyi Sanshan in which we stated that we did not intend to initiate a new shipper review it requested. On June 12, 2003, Lini Sanshan provided documentation establishing that the actual date on which the subject merchandise entered the United States for consumption is during the POR.

On May 29, 2003, we also received requests for new shipper reviews from Sunny Imp & Exp Limited (Sunny), Linshu Dading Private Agricultural Products Co., Ltd. (Linshu), and Tancheng County Dexing Foods Co., Ltd. (Tancheng). Further, on May 30, 2003, we received requests for new shipper reviews from Jinxiang Dong Yun Freezing Storage Co., Ltd. (Dong Yun), Shanghai Ever Rich Trade Company (Ever Rich), Taian Ziyang Food Co., Ltd. (Ziyang), and H&T Trading Company (H&T). H&T withdrew its request for a new shipper review on June 10, 2003.

Linyi Sanshan, Sunny, Dong Yun, Tancheng, and Ziyang certified that they both grew and exported the subject merchandise on which they based their requests for a new shipper review. Ever Rich and Linshu Dading certified that they exported the subject merchandise on which they based their requests for a new shipper review, but that they did not grow the subject merchandise. Specifically, Ever Rich certified that Pizhou Guangda Import and Export Corp., Ltd. (Pizhou Guangda), grew the subject merchandise it exported, and Linshu Dading certified that Jinxiang County Jinda Agricultural Industrial Trading Co., Ltd. (Jinxiang Jinda), grew the subject merchandise it exported.

Between June 12 and June 27, 2003, Linyi Shanshan, Sunny, Linshu Dading, Tancheng, Dong Yun, Ever Rich, and Ziyang resubmitted their requests for new shipper reviews to correct certain deficiencies (e.g., over-bracketing of public information) that we identified in their submissions.

Initiation of New Shipper Reviews

Pursuant to 19 CFR 351.214(b)(2)(i), Linyi Shanshan, Sunny, Linshu Dading, Tancheng Dexing, Dong Yun, Ever Rich, and Ziyang certified that they did not export subject merchandise to the United States during the period of investigation (POI). In addition, pursuant to 19 CFR 351.214(b)(2)(ii)(B), Pizhou Guangda and Jinxiang Jinda, the growers of the garlic exported by Ever Rich and Linshu Dading, respectively, provided certifications that they did not export the subject merchandise to the United States during the POI.

Pursuant to 19 CFR 351.214(b)(2)(iii)(A), each of the seven exporters, Linyi Sanshan, Sunny, Linshu Dading, Tancheng, Dong Yun, Ever Rich, and Ziyang, certified that, since the initiation of the investigation, they have never been affiliated with any exporter or producer who exported the subject merchandise to the United States during the POI, including those not individually examined during the investigation. As required by 19 CFR 351.214(b)(2)(iii)(B), each of the above-mentioned companies also certified that their export activities were not controlled by the central government.

In addition to the certifications described above, the companies submitted documentation establishing the following: (1) the date on which they first shipped the subject merchandise for export to the United States and the date on which the subject merchandise was first entered, or withdrawn from warehouse, for consumption; (2) the volume of their first shipment and the volume of subsequent shipments; (3) the date of their first sale to an unaffiliated customer in the United States.

Pursuant to section 751(a)(2)(B) of the Tariff Act of 1930, as amended (the Act), and 19 CFR 351.214(d)(1), we are initiating new shipper reviews for shipments of fresh garlic from the PRC:

(1) Grown and exported by Sunny, Linyi Sanshan, Dong Yun, Tancheng, and Ziyang;

(2) Grown by Pizhou Guangda and exported by Ever Rich;

(3) Grown by Jinxiang Jinda and exported by Linshu Dading.

The POR is November 1, 2002, through April 30, 2003. See 19 CFR 351.214(g)(1)(i)(A). We intend to issue final results of these reviews no later than 270 days from the date of initiation. See section 751(a)(2)(B)(iv) of the Act.

Because Linyi Sanshan, Sunny, Dong Yun, Tancheng, and Ziyang have certified that they both grew and exported the subject merchandise on which they based their request for a new shipper review, we will instruct the Bureau of Customs and Border Protection (Customs) to allow, at the option of the importer, the posting of a bond or security in lieu of a cash deposit for each entry of the subject merchandise both grown and exported by these companies until the completion of the new shipper reviews. With respect to Ever Rich and Linshu Dading, they have certified that they exported but did not grow the subject merchandise on which they based their request for a new shipper review (i.e., Pizhou Guangda certified that it grew the subject merchandise exported by Ever Rich and Jinxiang Jinda certified that it grew the subject merchandise exported by Linshu Dading). Therefore, until completion of the new shipper reviews, we will instruct Customs to allow, at the option of the importer, the posting of a bond or security in lieu of a cash deposit for entries of subject merchandise grown by Pizhou Guangda and exported by Ever Rich or grown by Jinxian Jinda and exported by Linshu Dading.

Interested parties that need access to proprietary information in this new shipper review should submit applications for disclosure under administrative protective order in accordance with 19 CFR 351.305 and 351.306.

This initiation and notice are in accordance with section 751(a)(2)(B) of the Act and 19 CFR 351.214 and 351.221(c)(1)(i).

Dated: June 30, 2003.
Louis Apple,
Acting Deputy Assistant Secretary for Import Administration.

[FR Doc. 03-17064 Filed 7-3-03; 8:45 am]

BILLING CODE 3510-DS-S